DEPARTMENT OF THE INTERIOR

Bureau of Land Management

[LLWYD01000.L16100000.DU0000]

Notice of Intent To Prepare an Environmental Assessment To Amend the Resource Management Plan for the Pinedale Field Office, Pinedale, Wyoming.

AGENCY: Bureau of Land Management, Interior.

ACTION: Notice of Intent.

SUMMARY: In compliance with the National Environmental Policy Act (NEPA) of 1969, as amended, and the Federal Land Policy and Management Act (FLPMA) of 1976, as amended, the Bureau of Land Management (BLM) Pinedale Field Office (PFO) intends to prepare a resource management plan (RMP) amendment with an associated environmental assessment (EA) to close approximately 5,120 acres to oil and gas leasing and by this notice is announcing the beginning of the scoping process.

DATES: Comments may be submitted in writing until June 9, 2014. Any scoping meetings will be announced at least 15 days in advance through local news media and the BLM Web site at www.blm.gov/wy/st/en/programs/Planning/rmps/pinedale.html. In order to be included in the analysis, all comments must be received prior to the close of the 30-day scoping period or 15 days after the last public meeting, whichever is later. The BLM will provide additional opportunities for public participation as appropriate.

ADDRESSES: Written comments on issues and planning criteria may be submitted by any of the following methods:

• Email: BLM_WY_Pinedale_RMP_Amendment@blm.gov

• Fax: (307) 367-5329

• Mail or Delivery: BLM Pinedale Field Office, 1625 West Pine Street, P.O. Box 768, Pinedale, WY 82941

All comments must include a legible full name and address on the envelope, letter, fax, postcard or email. Documents pertinent to this proposal may be examined at the PFO, 1625 West Pine Street, Pinedale, Wyoming.

FOR FURTHER INFORMATION CONTACT: Lauren McKeever, RMP Amendment Project Manager, at:

• Telephone: (307) 367-5352

• Email: BLM_WY_Pinedale_RMP_Amendment@blm.gov

• Address: P.O. Box 768, 1625 West Pine Street, Pinedale WY 82941

Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM completed the Pinedale RMP in 2008. The purpose of the RMP amendment is to analyze the closure of approximately 5,120 acres to oil and gas leasing in Sublette County, Wyoming. The State of Wyoming has requested that this land be made unavailable for future mineral leasing and development due to its location immediately adjacent to United States Forest Service lands withdrawn from leasing by the Wyoming Range Legacy Act of 2009 and private split-estate lands that the 2008 Pinedale RMP determined not to be available for leasing. In accordance with 43 CFR 1610.5-5, an RMP may be changed through an amendment. An amendment may be initiated by the need to consider monitoring and evaluation findings, new data, new or revised policy, a change in circumstances or a proposed action that may result in a change in the scope of resource uses or a change in the terms, conditions and decisions of the approved plan.

The purpose of the public scoping process is to determine relevant issues that will influence the scope of the environmental analysis, including alternatives, and guide the planning process. The BLM will use an interdisciplinary approach to develop the RMP amendment in order to consider the variety of resource issues and concerns identified.

Preliminary issues have been identified by BLM personnel, federal, state and local agencies and other stakeholders and include:

• Compliance with NEPA, FLPMA, and other applicable laws, executive orders, regulations and policy;

• Recognition of valid existing rights;

• All lands that may affect or be affected by BLM management decisions. Planning decisions in the RMP amendment will apply only to BLM-administered lands and federal mineral estate; and

• A collaborative and multi-jurisdictional approach, when possible, to jointly determine the desired future condition and management direction for the public lands. To the extent possible and within legal and regulatory parameters, the BLM management and planning decisions will complement the planning and management decisions of other agencies, state and local governments, and jurisdictions intermingled with, and adjacent to, the planning area.

The BLM will evaluate identified issues to be addressed in the plan, and will place them into one of three categories:

1. Issues to be resolved in the plan amendment;

2. Issues to be resolved through policy or administrative action; or

3. Issues beyond the scope of this plan amendment.

The BLM will provide an explanation in the draft RMP amendment/EA as to why an issue was placed in category two or three. The public is encouraged to help identify any management questions and concerns that should be addressed in the plan. The BLM will work collaboratively with interested parties to identify the management decisions that are best suited to local, regional, and national needs and concerns.

Comments may be submitted in writing to the BLM at any public scoping meeting or through one of the methods listed in the ADDRESSES section above. Before including your address, phone number, email address, or other personal identifying information in your comment, you should be aware that your entire comment—including your personal identifying information—may be made publicly available at any time. While you may ask us in your comment to withhold your personal identifying information from public review, we cannot guarantee that we will be able to do so.

Authority: 40 CFR 1501.7 and 43 CFR 1610.2.

Larry Claypool,
Acting State Director.

[FR Doc. 2014-10498 Filed 5-8-14; 8:45 am]

BILLING CODE 4310-22-P